DEPARTMENT OF JUSTICE

Antitrust Division

Notice Pursuant to the National Cooperative Research and Production Act of 1993—SEMATECH, Inc.

Notice is hereby given that, on February 9, 1998, pursuant to section 6(a) of the National Cooperative Research and Production Act of 1993, 15 U.S.C. 4301 et seq. (“the Act”), SEMATECH, Inc. (“SEMATECH”) has filed written notifications simultaneously with the Attorney General and the Federal Trade Commission disclosing changes in its membership status. The notifications were filed for the purpose of extending the Act's provisions limiting the recovery of antitrust plaintiffs to actual damages under specified circumstances. Specifically, Lucent Technologies, Murray Hill, NJ has been added as a party to this venture. Also, American Telephone & Telegraph Company, New York, NY; Harris Corporation, Melbourne, FL; LSI Logic Corporation Milpitas, CA; Micron Technology, Inc., Boise, ID; and NCR Corporation, Dayton, OH have been dropped as parties to this venture.

No other changes have been made in either the membership or planned activity of the group research project. Membership in this group research project remains open, and SEMATECH intends to file additional written notification disclosing all changes in membership.

On April 22, 1988, SEMATECH filed its original notification pursuant to section 6(a) of the Act. The Department of Justice published a notice in the Federal Register pursuant to section 6(b) of the Act on May 19, 1988 (53 FR 17987).

The last notification was filed with the Department on January 4, 1989. A notice was published in the Federal Register pursuant to section 6(b) of the Act on February 10, 1989 (54 FR 6458).

Constance K. Robinson,
Director of Operations, Antitrust Division.

[FR Doc. 01-10024 Filed 4-23-01; 8:45 am]

BILLING CODE 4410-11-M